DEPARTMENT OF AGRICULTURE

Rogue/Umpqua Resource Advisory Committee (RAC)

AGENCY: Forest Service, USDA.

ACTION: Action of meeting.

SUMMARY: The Rogue/Umpqua Resource Advisory Committee (RAC) will meet on Thursday and Friday, May 19 and 20, 2005. The purpose of the meeting is monitor RAC projects through fieldtrips. The fieldtrip is scheduled to begin at 9 a.m. and conclude at approximately 4 p.m. on May 19 and begin at 9 a.m. and conclude at approximately 4 p.m. on May 20. The May 19 fiedltrip will be held on the Cottage Grove Ranger District, 78405 Cedar Park Road, Cottage Grove, OR. On May 20, the fieldtrip will be held on the Tiller Ranger District, 27812 Tiller Trail Highway, Tiller, OR. The agenda on both days includes a short business meeting from 9 to 9:30 a.m. to discuss RAC projects and funding, followed by monitoring RAC projects on the district. Public comments are welcome between 9 to 9:30 a.m. Written public comments may be submitted prior to the May fieldtrip by sending them to Designated Federal Official Jim Caplan at the address given below.

FOR FURTHER INFORMATION CONTACT: For more information regarding this meeting, contact Designated Federal Official Jim Caplan; Umpqua National Forest; 2900 NW., Stewart Parkway, Roseburg, Oregon 97470; (541) 580-0839.

Dated: April 20, 2005.
James A. Caplan,
Forest Supervisor, Umpqua National Forest.

[FR Doc. 05-8505 Filed 4-27-05; 8:45 am]

BILLING CODE 3410-11-M